INTERNATIONAL TRADE COMMISSION

[Investigation Nos. 701-TA-462 and 731-TA-1156-1158 (Preliminary)]

Polyethylene Retail Carrier Bags From Indonesia, Taiwan, and Vietnam; Determinations

On the basis of the record ¹ developed in the subject investigations, the United States International Trade Commission (Commission) determines, pursuant to sections 703(a) and 733(a) of the Tariff Act of 1930 (19 U.S.C. 1671b(a) and 19 U.S.C. 1673b(a)) (the Act), that there is a reasonable indication that an industry in the United States is materially injured by reason of imports from Indonesia, Taiwan, and Vietnam of polyethylene retail carrier bags (PRCBs) provided for in subheading 3923.21.00 of the Harmonized Tariff Schedule of the United States. PRCBs imported from Vietnam are alleged to be subsidized and sold in the United States at less than fair value (LTFV). PRCBs imported from Indonesia and Taiwan are alleged to be sold in the United States at LTFV.

¹ The record is defined in section 207.2(f) of the Commission's Rules of Practice and Procedure (19 CFR 207.2(f)).

Commencement of Final Phase Investigations

Pursuant to section 207.18 of the Commission's rules, the Commission also gives notice of the commencement of the final phase of its investigations. The Commission will issue a final phase notice of scheduling, which will be published in the Federal Register as provided in section 207.21 of the Commission's rules, upon notice from the Department of Commerce (Commerce) of affirmative preliminary determinations in the investigations under sections 703(b) and 733(b) of the Act, or, if the preliminary determinations are negative, upon notice of affirmative final determinations in those investigations under sections 705(a) and 735(a) of the Act. Parties that filed entries of appearance in the preliminary phase of the investigations need not enter a separate appearance for the final phase of the investigations. Industrial users, and, if the merchandise under investigation is sold at the retail level, representative consumer organizations, have the right to appear as parties in Commission antidumping and countervailing duty investigations. The Secretary will prepare a public service list containing the names and addresses of all persons, or their representatives, who are parties to the investigations.

Background

On March 31, 2009, a petition was filed with the Commission and Commerce by Hilex Poly Co., LLC, Hartsville, SC, and Superbag Corp., Houston, TX, alleging that an industry in the United States is materially injured by reason of subsidized and LTFV imports of PRCBs from Vietnam and LTFV imports of PRCBs from Indonesia and Taiwan. Accordingly, effective March 31, 2009, the Commission instituted countervailing duty investigation No. 701-TA-462 and antidumping duty investigations Nos. 731-TA-1156-1158 (Preliminary).

Notice of the institution of the Commission's investigations and of a public conference to be held in connection therewith was given by posting copies of the notice in the Office of the Secretary, U.S. International Trade Commission, Washington, DC, and by publishing the notice in the Federal Register of April 8, 2009 (74 FR 16009). The conference was held in Washington, DC, on April 21, 2009, and all persons who requested the opportunity were permitted to appear in person or by counsel.

The Commission transmitted its determinations in these investigations to the Secretary of Commerce on May 15, 2009. The views of the Commission are contained in USITC Publication 4080 (May 2009), entitled Polyethylene Retail Carrier Bags from Indonesia, Taiwan, and Vietnam: Investigation Nos. 701-TA-462 and 731-TA-1156-1158 (Preliminary).

Issued: May 22, 2009.
By order of the Commission.
Marilyn R. Abbott,
Secretary to the Commission.

[FR Doc. E9-12497 Filed 5-28-09; 8:45 am]

BILLING CODE 7020-02-P